DEPARTMENT OF HEALTH AND HUMAN SERVICES

Office of the Secretary

45 CFR Parts 160 and 164

RIN 0991-AB08

Technical Corrections to the Standards for Privacy of Individually Identifiable Health Information Published December 28, 2000

AGENCY: Office of the Assistant Secretary for Planning and Evaluation, DHHS.

ACTION: Technical corrections to final rule.

SUMMARY: These technical corrections address changes that inadvertently were excluded from the preamble of the Standards for Privacy of Individually Identifiable Health Information published December 28, 2000.

DATES: The effective date of these changes is February 26, 2001, the same as the effective date of the Standards for Privacy of Individually Identifiable Health Information published December 28, 2000.

FOR FURTHER INFORMATION CONTACT: Kimberly Coleman, 1-866-OCR-PRIV (1-866-627-7748) or TTY 1-866-788-4989.

Technical Corrections

Correction 1: In the section-by-section description of the rule provisions, under the description of section 164.510(a)—Use and Disclosure for Facility Directories, paragraphs seven and eight beginning “We believe that allowing clergy . . .,” and “More specifically, . . .,” are deleted and replaced with the following:

We believe that allowing clergy access to patient information pursuant to this section does not violate the Establishment Clause because the exemption from the final rule's authorization requirement for disclosure to clergy of the specified protected health information is a permissible religious accommodation. The purpose and effect of this provision is to alleviate significant governmental interference with the exercise of religion, and we anticipate that the exemption would rarely, if ever, impose any significant burdens on patients or other individuals.

Without this exemption, covered entities would have to obtain authorizations before disclosing the limited protected health information to clergy, thereby making is more difficult than it commonly has been for clergy to provide services to patients. Accordingly, the clergy exemption permitting limited disclosure of protected health information in the circumstances noted above is “rationally related to the legitimate purpose of alleviating significant governmental interference with the ability of religious organizations to define and carry out their religious missions.” Corporation of the Presiding Bishop of Jesus Christ of Latter-Day Saints v. Amos, 483 U.S. 327, 339 (1987). Moreover, in certain cases the clergy exemption might also alleviate significant governmental interference with patients' religious exercise that the final rule's authorization requirement otherwise would impose—for example, by eliminating delay that might inhibit the ability of a patient to obtain sacraments provided during last rights.

Correction 2: In the section-by-section discussion of comments, under the discussion of section 164.534—EFFECTIVE DATE AND COMPLIANCE DATE, the last sentence of the second paragraph should be replaced with the following language. Although the regulation is effective as of 60 days from publication in the Federal Register, section 1175 of HIPAA makes clear that no covered entity shall be required to comply with any standard or implementation specification for 24 months (or 36 months for small health plans). We will not enforce the regulation prior to those dates, and the regulation's provisions will not preempt or otherwise alter state or other law prior to those dates. A covered entity may, or course, voluntarily implement policies that would comply with the regulation prior to those dates, but the regulation itself will neither compel disclosure nor provide a basis to refuse disclosure. We intend, therefore, for all of the provisions of the rule to come into force in 24 months (or 36 months for small health plans).

Dated: December 27, 2000.
LaVerne Burton,
Executive Secretary.

[FR Doc. 00-33444 Filed 12-27-00; 1:33 pm]

BILLING CODE 4150-04-M